DEPARTMENT OF THE INTERIOR

National Park Service

[NPS-AKR-ANIA-DENA-WRST-11950; PPAKAKROR4, PPMPRLE1Y.LS0000]

Notice of Open Public Meetings for the National Park Service Alaska Region Subsistence Resource Commission (SRC) Program

AGENCY: National Park Service (NPS), Interior.

ACTION: Meeting notice.

SUMMARY: As required by the Federal Advisory Committee Act (Pub. L. 92-463, 86 Stat. 770), the NPS is hereby giving notice that the Aniakchak National Monument SRC, Denali National Park SRC, and the Wrangell-St. Elias SRC will hold meetings to develop and continue work on NPS subsistence program recommendations and other related subsistence management issues. The NPS SRC program is authorized under Title VIII, Section 808 of the Alaska National Interest Lands Conservation Act, Public Law 96-487.

Public Availability of Comments: These meetings are open to the public and will have time allocated for public testimony. The public is welcome to present written or oral comments to the SRC. The meetings will be recorded and meeting minutes will be available upon request from the park superintendent for public inspection approximately six weeks after the meeting. Before including your address, telephone number, email address, or other personal identifying information in your comment, you should be aware that your entire comment—including your personal identifying information—may be made publicly available at any time. While you can ask us in your comment to withhold your personal identifying information from public review, we cannot guarantee that we will be able to do so.

Aniakchak National Monument SRC Meeting Date and Location: The Aniakchak National Monument SRC will meet from 1:30 p.m. to 5 p.m. on Monday, February 11, 2013, at the Katmai National Park Office in the King Salmon Mall in King Salmon, AK. SRC meeting locations and dates may change based on inclement weather or exceptional circumstances. If the meeting date and location are changed, the Superintendent may issue a press release and use local newspapers and radio stations to announce the meeting.

Aniakchak National Monument SRC Proposed Meeting Agenda: The proposed meeting agenda includes the following:

1. Call to Order—Confirm Quorum

2. Welcome and Introductions

3. Administrative Announcements

4. Approval of Minutes

5. SRC Purpose

6. SRC Membership Status

7. Election of Officers (Chair and Vice Chair)

8. SRC Chair and Member Reports

9. Public and Other Agency Comments

10. Old Business

a. Update on environmental assessment on the subsistence collections and uses of shed or discarded animal and plants

11. New Business

12. Federal Subsistence Board Updates

13. Alaska Board of Game Updates

14. National Park Service Reports

a. Superintendent updates

b. Subsistence manager updates

c. Resource management updates

d. Ranger updates

15. Public and Other Agency Comments

16. SRC Work Session

17. Select Time and Location for Next Meeting

18. Adjourn Meeting

FOR FURTHER INFORMATION CONTACT: Designated Federal Official: Eric Veach, Acting Superintendent at (907) 246-3305 or Mary McBurney, Subsistence Manager, at (907) 235-7891, or Clarence Summers, Subsistence Manager, at (907) 644-3603. If you are interested in applying for SRC membership, contact the Superintendent at P.O. Box 7, King Salmon, AK 99613 or visit the park Web site at: http://www.nps.gov.ania/contacts.htm.

Denali National Park SRC Meeting Date and Location: The Denali National Park SRC will meet from 9:00 a.m. to 5:p.m. on Tuesday, February 26, 2013, or until business is completed at the Cantwell Community Hall in Cantwell, AK. SRC meeting locations and dates may change based on inclement weather or exceptional circumstances. If the meeting date and location are changed, the Superintendent may issue a press release and use local newspapers and radio stations to announce the meeting.

Denali National Park SRC Proposed Meeting Agenda: The proposed meeting agenda includes the following:

1. Call to Order—Confirm Quorum

2. Welcome and Introductions

3. Administrative Announcements

4. Approve Agenda

5. Approval of Minutes

6. SRC Purpose

7. Status of Membership

8. SRC Chair and Members Reports

9. Public and Other Agency Comments

10. Old Business

a. Update on environmental assessment on the subsistence collections and uses of shed or discarded animal and plants

11. New Business

12. Federal Subsistence Board Updates

13. Alaska Board of Game Updates

14. National Park Service Reports

a. Superintendent updates

b. Subsistence manager updates

c. Resource management updates

d. Ranger updates

15. Public and Other Agency Comments

16. SRC Work Session

17. Select Time and Location for Next Meeting

18. Adjourn

FOR FURTHER INFORMATION CONTACT: Designated Federal Official: Philip Hooge, Assistant Superintendent, or Amy Craver, Subsistence Manager, at (907) 683-2294 or Clarence Summers, Subsistence Manager, at (907) 644-3603. If you are interested in applying for Denali National Park, SRC membership, contact the Superintendent at P.O. Box 9, Denali Park, AK 99755, or visit the park Web site at: http://www.nps.gov.dena/contacts.htm.

Wrangell-St. Elias National Park SRC Meeting Date and Location: The Wrangell-St. Elias National Park SRC will meet from 9:00 a.m. to 5:00 p.m. on Wednesday, March 6 to Thursday, March 7, 2013, at Kenny Lake Community Hall in Kenny Lake, AK. SRC meeting locations and dates may change based on inclement weather or exceptional circumstances. If the meeting date and location are changed, the Superintendent may issue a press release and use local newspapers and radio stations to announce the meeting.

Wrangell-St. Elias Park SRC Proposed Meeting Agenda: The proposed meeting agenda includes the following:

1. Call to Order—Confirm Quorum

2. Welcome Introduction

3. Review and Adoption of Agenda

4. Review and Approval of Minutes from the October 30, 2012, Meeting

5. Welcome by Local Community (Kenny Lake League Representative)

6. Superintendent's Welcome and Review of the Commission Purpose

7. SRC Membership Status

8. Election of Officers (Chair and Vice Chair)

9. SRC Chair and Members Reports

10. Superintendent's Report

11. Old Business

a. Update on environmental assessment on the subsistence collections and uses of shed or discarded animal parts and plants from NPS areas in Alaska

b. Update on Nabesna-area ORV management

c. Update on firewood harvest and portable motors

d. Report on actions at January 2013 Federal Subsistence Board meeting

12. New Business

a. Call for proposals to change federal subsistence wildlife regulations

b. Public testimony Unit 11 by residents of Kenny Lake

c. Discussion of topics to bring up at SRC Chairs Workshop

d. Updates to the park subsistence plan

e. Use of chainsaws and small motors

f. SRC involvement in developing compendium entries

13. National Park Service Reports

a. Ranger updates

b. Resource management updates

c. Fisheries management updates

d. Wildlife management updates

e. Subsistence manager's report

14. Public and Other Agency Comments

15. Work Session

16. Set Tentative Date and Location for Next Subsistence Resource Commission Meeting

17. Adjourn

FOR FURTHER INFORMATION CONTACT: Designated Federal Official: Rick Obernesser, Superintendent, or Barbara Cellarius, Subsistence Manager, at (907) 822-5234 or Clarence Summers Subsistence Manager, at (907) 644-3603. If you are interested in applying for Wrangell-St. Elias National Park SRC membership, contact the Superintendent at P.O. Box 439, Copper Center, AK 99573, or visit the park Web site at: http://www.nps.gov.wrst/contacts.htm.

Dated: December 8, 2012.
Debora R. Cooper,
Associate Regional Director, Resources and Subsistence, Alaska Region.

[FR Doc. 2013-01319 Filed 1-23-13; 8:45 am]

BILLING CODE P